DEPARTMENT OF HOMELAND SECURITY

Coast Guard

33 CFR Part 165

[Docket No. USCG-2012-0427]

RIN 1625-AA00

Safety Zone; Gilmerton Bridge Center Span Float-In, Elizabeth River; Norfolk, Portsmouth, and Chesapeake, VA

AGENCY: Coast Guard, DHS.

ACTION: Proposed rule; withdrawal.

SUMMARY: The Coast Guard is withdrawing its proposed rule concerning the Gilmerton Bridge Center Span Float-in and bridge construction of span placement. The original proposal had a start date of July 31, 2012, and must be rescheduled to start on September 5, 2012, due to unforeseen circumstances with span lift construction.

DATES: The proposed rule is withdrawn on July 6, 2012.

ADDRESSES: The docket for this withdrawn rulemaking is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2012-0427 in the “Keyword” box, and then clicking “Search.”

FOR FURTHER INFORMATION CONTACT: If you have questions about this notice, call or email Hector Cintron, Waterways Management Division Chief, Sector Hampton Roads, Coast Guard; telephone 757-668-5581, email Hector.L.Cintron@uscg.mil. If you have questions on viewing material in the docket, call Renee V. Wright, Program Manager, Docket Operations, telephone 202-366-9826.

SUPPLEMENTARY INFORMATION:

Background

On July 25, 2012, we published a notice of proposed rulemaking entitled “Safety Zone; Gilmerton Bridge Center Span Float-in, Elizabeth River; Norfolk, Portsmouth, and Chesapeake, Virginia” in the Federal Register (77 FR 43557). The rulemaking concerned establishing a safety zone on the navigable waters of the Elizabeth River in Norfolk, Portsmouth, and Chesapeake, VA, in order to provide for the safety of life on navigable waters during the Gilmerton Bridge Center Span Float-in and bridge construction of span placement.

Withdrawal

The proposed rule is being withdrawn due to unforeseen circumstances in the construction timeline of the Center Span, which has caused a 5 week delay in the project.

Authority: We issue this notice of withdrawal under the authority of 5 U.S.C. 552(a), 44 U.S.C. 1505(a)(3), and 33 CFR 1.05-1.

Dated: July 17, 2012.
John K. Little,
Captain, U.S. Coast Guard, Captain of the Port Hampton Roads.

[FR Doc. 2012-18559 Filed 7-27-12; 8:45 am]

BILLING CODE 9110-04-P